DEPARTMENT OF HEALTH AND HUMAN SERVICES

Health Resources and Services Administration

Non-competitive Fiscal Year 2017 Supplemental Funding Award Ryan White HIV/AIDS Program, Part F Special Projects of National Significance

AGENCY: Health Resources and Services Administration (HRSA), HHS.

ACTION: Notice.

SUMMARY: This non-competitive supplemental award to the University of California, San Francisco (UCSF), the Evaluation and Technical Assistance Center (ETAC) for the Culturally Appropriate Interventions of Outreach, Access and Retention among Latino/a Populations initiative, will support the costs of analysis, publication, and dissemination of findings and best practices learned from the initiative.

SUPPLEMENTARY INFORMATION:

Intended Recipient of the Award: UCSF (U90HA26507).

Amount of Non-Competitive Award: $100,000.

Period of Funding: September 1, 2017, through August 31, 2018.

CFDA Number: No. 93.928.

Authority: Public Health Service Act, Section 2691 (42 U.S.C. 300ff-101), as amended by the Ryan White HIV/AIDS Treatment Extension Act of 2009 (Pub. L. 111-87).

Justification: UCSF is currently conducting a multisite evaluation and providing technical assistance to the ten demonstration sites awarded under this initiative. The sites implement innovative interventions that identify Latinos/as at high risk or living with HIV in the United States, and improve their access, timely entry, and retention in quality HIV primary care. This supplemental funding will cover the costs of a special supplemental issue of a top-tier HIV/AIDS journal containing findings from the initiative, and support additional staff to assist in the analysis, publication, and dissemination of findings, best practices, and lessons learned. The supported activity includes the production of the required interventions manual for the initiative documenting the ten intervention models employed by the demonstration sites in order to promote the future replication of the interventions by Ryan White HIV/AIDS Program recipients and other health care providers. Not issuing this award would severely reduce the impact of this initiative by limiting the analysis and dissemination of best practices and lessons learned to HIV providers serving these Latino/a subpopulations. This would weaken efforts to improve the health outcomes for Latinos/as living with HIV in the United States.

FOR FURTHER INFORMATION CONTACT: Mr. Adan Cajina, Chief, Demonstration Evaluation Branch, Office of Training and Capacity Development, Division of HIV Domestic Programs, HIV/AIDS Bureau, HRSA, 5600 Fishers Lane, 09N108, Rockville, MD 20857, Phone: (301) 443-3180, Email: acajina@hrsa.gov.

Dated: September 19, 2017.
George Sigounas,
Administrator.

[FR Doc. 2017-20541 Filed 9-25-17; 8:45 am]

BILLING CODE 4165-15-P